DEPARTMENT OF THE INTERIOR

Fish and Wildlife Service

[FWS-R6-NWRS-2022-N025; FF06R0ZS00-FXRS12610600000-223]

Intent To Prepare a Comprehensive Conservation Plan for Bear River Migratory Bird Refuge, Box Elder County, UT, and Bear River Watershed Conservation Area in UT, ID, and WY

AGENCY: Fish and Wildlife Service, Interior.

ACTION: Notice of intent; request for comments.

SUMMARY: The U.S. Fish and Wildlife Service (Service) intends to gather information necessary to prepare a comprehensive conservation plan (CCP) for Bear River Migratory Bird Refuge and Bear River Watershed Conservation Area, pursuant to the National Environmental Policy Act of 1969 and its implementing regulations. The Service provides this notice in compliance with the Service's CCP policy to advise other Federal and State agencies, Native American Tribes, and the public of intentions, and to obtain suggestions and information on the scope of issues to consider in the planning process.

DATES: To ensure consideration, written comments must be received or postmarked on or before March 27, 2023.

Media, newspapers, Refuge offices, and the websites for Refuges contained within the Bear Lake Watershed Conservation Area (Bear River Migratory Bird Refuge, Arapaho National Wildlife Refuge, Cokeville Meadows National Wildlife Refuge, Seedskadee National Wildlife Refuge, and Bear Lake National Wildlife Refuge) will be used to inform the public and State and local government agencies of the opportunities for written input throughout the CCP planning process. Open-house style meeting(s) will be held throughout the scoping phase of the comprehensive conservation plan development process.

ADDRESSES: Please submit comments and questions by one of the following methods:

• Email: BearRiver@fws.gov; or

• U.S. mail: Erin Holmes, Project Leader, Bear River Migratory Bird Refuge, 2155 W Forest St., Brigham City, UT 84302.

For more information, please see Public Availability of Comments in the SUPPLEMENTARY INFORMATION section.

FOR FURTHER INFORMATION CONTACT: Erin Holmes, 435-723-5887 (phone). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Introduction

With this notice, the Service initiates the process for developing a comprehensive conservation plan (CCP) for the Bear River Migratory Bird Refuge, Brigham City, Utah, and the Bear River Watershed Conservation Area in the states of Utah, Idaho, and Wyoming. This notice complies with the CCP policy to: (1) advise other Federal and State agencies, Native American Tribes, and the public of the intention to conduct detailed planning on the Bear River Migratory Bird Refuge and the Bear River Watershed Conservation Area; and (2) obtain suggestions and information on the scope of issues to consider in the environmental document and during development of the CCP.

The CCP Process

The National Wildlife Refuge System Administration Act of 1966 (16 U.S.C. 668dd-668ee; Administration Act), as amended by the National Wildlife Refuge System Improvement Act of 1997, requires the Service to develop a CCP for each national wildlife refuge. The purpose in developing a CCP is to provide refuge managers with a 15-year strategy for achieving refuge purposes and contributing toward the mission of the National Wildlife Refuge System, consistent with sound principles of fish and wildlife management, conservation, legal mandates, and Service policies. In addition to outlining broad management direction on conserving wildlife and their habitats, plans identify compatible wildlife-dependent recreational opportunities available to the public, including, where appropriate, opportunities for hunting, fishing, wildlife observation, wildlife photography, and environmental education and interpretation. Each plan must be updated every 15 years in accordance with the Administration Act.

Each unit of the National Wildlife Refuge System was established for specific purposes. These purposes are used as the foundation for developing and prioritizing the management goals and objectives for each refuge within the National Wildlife Refuge System mission, and to determine how the public can use each refuge. The planning process is a way for the Service and the public to evaluate management goals and objectives for the best possible conservation approach to this important wildlife habitat, while providing for wildlife-dependent recreation opportunities that are compatible with the refuge's establishing purposes and the mission of the National Wildlife Refuge System.

The CCP process provides participation opportunities for Tribal, State, and local governments; agencies; organizations; and the public. The Service encourages input in the form of issues, concerns, ideas, and suggestions for the future management of Bear River Migratory Bird Refuge and the Bear River Watershed Conservation Area.

National Environmental Policy Act Compliance

An environmental review of this project will be conducted in accordance with the requirements of the National Environmental Policy Act of 1969, as amended (NEPA; 42 U.S.C. 4321 et seq.); NEPA regulations (40 CFR parts 1500-1508); other appropriate Federal laws and regulations; and the policies and procedures for compliance with those laws and regulations.

Tribal Responsibilities

The Service has unique responsibilities to Tribes, including under the National Historic Preservation Act (16 U.S.C. 470 et seq.); the American Indian Religious Freedom Act (42 U.S.C. 1996); Native American Grave Protection and Repatriation Act (25 U.S.C. 3001); Religious Freedom Restoration Act of 1993 (42 U.S.C. 2000bb et seq.); Joint Secretarial Order 3403, Fulfilling the Trust Responsibility to Indian Tribes in the Stewardship of Federal Lands and Waters (November 15, 2021); Secretarial Order 3206, American Indian Tribal Rights, Federal-Tribal Trust Responsibilities, and the Endangered Species Act (June 5, 1997); Executive Order 13007, Indian Sacred Sites (61 FR 26771, May 29, 1996); and the Service's Native American Policy. We apply the term “Tribal” or “Tribe(s)” generally to federally recognized Tribes and Alaska Native Tribal entities. We will refer to Native Hawaiian Organizations separately when we intend to include those entities.

The Service will separately consult with Tribes on the proposals set forth in this notice of intent. We will also ensure that those Tribes wishing to engage directly in the NEPA process will have the opportunity to do so. As part of this process, we will protect the confidential nature of any consultations and other communications we have with Tribes, to the extent permitted by the Freedom of Information Act and other laws.

Bear River Migratory Bird Refuge

Bear River Migratory Bird Refuge was established by Presidential Proclamation in 1928 and Public Law 304 of the 70th Congress as “suitable refuge and feeding, and breeding grounds for migratory wild fowl.” Currently, the Refuge encompasses 77,102 acres and is comprised of deltaic wetlands that make up numerous wetland impoundments, wet meadows, and uplands. Located at the terminus of the Bear River, and part of the Great Salt Lake (GSL) ecosystem, the Refuge is a priority area within the Bear River Watershed Conservation Area and plays a critical role in providing habitat for migratory birds along the Central and Pacific Flyways. More than 210 species of birds have been documented during migration on the Refuge, and 70 species are known to nest there. During migration, the GSL ecosystem provides habitat for an estimated 217 million waterfowl use-days in the fall and 60 million waterfowl use-days in spring (Intermountain West Joint Venture 2013). Refuge habitats alone may support up to 500,000 waterfowl and 200,000 shorebirds annually during migration. In addition, about 15 percent of the western population of tundra swan utilizes Refuge habitats during fall and may remain throughout the winter in mild years.

Bear River Watershed Conservation Area

Bear River Watershed Conservation Area, which encompasses Bear River Migratory Bird Refuge, Cokeville Meadows National Wildlife Refuge, and Bear Lake National Wildlife Refuge, was established in 2016. This conservation easement program has the potential to protect up to 920,000 acres of wetland, grassland, and agricultural land in the Bear River Watershed by purchasing easements on private land from willing landowners within the roughly 4.8-million-acre project area. As of September 2021, 3,283.44 acres within the Bear River Watershed Conservation Area have been protected by conservation easements. Conservation easements are a legal agreement between a willing landowner and the Service. The Service purchases the conservation easements in the Bear River Watershed Conservation Area with money generated by the Land and Water Conservation Fund Act of 1965. These funds are derived from oil and gas leases on the Outer Continental Shelf, motorboat fuel tax revenues, and sale of surplus Federal property.

Public Availability of Comments

All information provided voluntarily by mail, by phone, or at public meetings (e.g., names, addresses, letters of comment, input recorded during meetings) becomes part of the official public record. Before including your address, phone number, email address, or other personal identifying information in your comment, you should be aware that your entire comment—including your personal identifying information—may be made publicly available at any time. While you can ask us in your comment to withhold your personal identifying information from public review, the Service cannot guarantee we will be able to do so.

Authority

This notice is published under the authority of the National Wildlife Refuge System Improvement Act of 1997, Public Law 105-57.

Anna Munoz,
Deputy Regional Director, Mountain-Prairie Region.

[FR Doc. 2023-03863 Filed 2-23-23; 8:45 am]

BILLING CODE 4333-15-P